DEPARTMENT OF TRANSPORTATION

Federal Motor Carrier Safety Administration

[Docket No FMCSA-2013-0392]

Proposed Enhancements to the Motor Carrier Safety Measurement System (SMS) Public Web Site

AGENCY: Federal Motor Carrier Safety Administration (FMCSA), DOT.

ACTION: Notice; extension of comment period.

SUMMARY: FMCSA extends the comment period for its November 5, 2013, notice requesting public comments on proposed enhancements to the display of information on the Agency's Safety Measurement System (SMS) public Web site. On December 6, 2013, Advocates for Highway and Auto Safety (Advocates) formally requested that the Agency extend the comment period by 30 days. The Agency extends the deadline for comment from January 6 to January 21, 2014.

DATES: Comments must be received on or before January 21, 2014.

ADDRESSES: You may submit comments identified by Federal Docket Management System Number FMCSA-2013-0392 by any of the following methods:

Federal eRulemaking Portal: http://www.regulations.gov. Follow the online instructions for submitting comments.

Fax: 1-202-493-2251.

Mail: Docket Management Facility, (M-30), U.S. Department of Transportation (DOT), 1200 New Jersey Avenue SE., West Building, Ground Floor, Room 12-140, Washington, DC 20590-0001.

Hand Delivery: Same as mail address above, between 9 a.m. and 5 p.m., e.t, Monday through Friday, except Federal holidays. The telephone number is 202-366-9329.

You may submit your comments and material online or by fax, mail, or hand delivery, but please use only one of these means.

FMCSA recommends that you include your name and a mailing address, an email address, or a phone number in the body of your document so that FMCSA can contact you if there are questions regarding your submission.

To submit your comment online, go to http://www.regulations.gov and in the search box insert the docket number “FMCSA-2013-0392” and click the search button. When the new screen appears, click on the blue “Comment Now!” button on the right hand side of the page. On the new page, enter information required including the specific section of this document to which each comment applies, and provide a reason for each suggestion or recommendation. If you submit your comments by mail or hand delivery, submit them in an unbound format, no larger than 8½ by 11 inches, suitable for copying and electronic filing. If you submit comments by mail and would like to know that they reached the facility, please enclose a stamped, self-addressed postcard or envelope.

We will consider all comments and material received during the comment period and may change the proposed enhancements based on your comments. FMCSA may issue final enhancements at any time after the close of the comment period.

Viewing Comments and Documents

To view comments, as well as any documents mentioned in this preamble, To submit your comment online, go to http://www.regulations.gov and in the search box insert the docket number “FMCSA-2013-0392” and click “Search.” Next, click “Open Docket Folder” and you will find all documents and comments related to the proposed rulemaking.

Note that all comments received, including any personal information provided, will be posted without change to http://www.regulations.gov. Please see the “Privacy Act” heading below.

Docket: For access to the docket to read background documents or comments received, go to http://www.regulations.gov at any time or to Room W12-140 on the ground floor of the DOT Headquarters Building at 1200 New Jersey Avenue SE., Washington, DC 20590, between 9 a.m. and 5 p.m., e.t., Monday through Friday, except Federal holidays.

Privacy Act: Anyone is able to search the electronic form of all comments received into any of our dockets by the name of the individual submitting the comment (or signing the comment, if submitted on behalf of an association, business, labor union, etc.). You may review DOT's Privacy Act System of Records Notice for the DOT Federal Docket Management System published in the Federal Register on January 17, 2008 [73 FR 3316].

Public Participation: The http://www.regulations.gov Web site is generally available 24 hours each day, 365 days each year. You can get electronic submission and retrieval help and guidelines under the “help” section of the http://www.regulations.gov Web site. Comments received after the comment closing date will be included in the docket, and will be considered to the extent practicable.

FOR FURTHER INFORMATION CONTACT: Ms. Courtney Stevenson, Federal Motor Carrier Safety Administration, Compliance Division, 1200 New Jersey Avenue SE., Washington, DC 20590, Telephone 202-366-5241, Email: courtney.stevenson@dot.govmailto:

SUPPLEMENTARY INFORMATION:

Background

On November 5, 2013 (78 FR 66420), FMCSA published a notice in the Federal Register requesting comments on proposed enhancements to the display of information on the Agency's SMS public Web site. FMCSA first announced the implementation of the SMS in April 2010 and announced further improvements to the SMS in March 2012 and August 2012. Consistent with its prior announcements, the Agency announced proposed changes to the design of the SMS public Web site that are the direct result of feedback from stakeholders regarding the information displayed. The Agency provided a 60-day comment period for the notice with a deadline of January 6, 2014, for the submission of comments.

On December 6, 2013, Advocates requested a 60-day extension of the comment period for the November 5, notice. Advocates stated that “review of the topic requires considerable experience with the use of the Compliance, Safety and Accountability (CSA) Web site and the SMS data in order to evaluate the display of information, assess the changes and formulate a clear understanding the changes may have on public access and comprehension of the [Web site] information.”

The FMCSA has determined that a 15-day extension of the comment period is appropriate while a longer extension, as requested by Advocates, is unnecessary given the original 60-day comment period and the three educational webinars the Agency conducted on November 18, 21, and 22. The series of webinars were announced in the November 5, 2013, notice.

In consideration of the above, FMCSA extends the deadline for submission of public comments from January 6 to January 21, 2014.

Issued on: December 11, 2013.
Larry W. Minor,
Associate Administrator for Policy.

[FR Doc. 2013-29958 Filed 12-16-13; 8:45 am]

BILLING CODE 4910-EX-P